DEPARTMENT OF JUSTICE

8 CFR Ch. V

21 CFR Ch. I

27 CFR Ch. II

28 CFR Ch. I, V

48 CFR Ch. XXVIII

Regulatory Agenda

AGENCY: Department of Justice.

ACTION: Semiannual Regulatory Agenda.

SUMMARY: The Department of Justice is publishing its spring 2024 regulatory agenda pursuant to Executive Order 12866, “Regulatory Planning and Review,” 58 FR 51735, and the Regulatory Flexibility Act, 5 U.S.C. 601 to 612 (1988).

FOR FURTHER INFORMATION CONTACT: Robert Hinchman, Senior Counsel, Office of Legal Policy, Department of Justice, Room 4252, 950 Pennsylvania Avenue NW, Washington, DC 20530, (202) 514-8059.

SUPPLEMENTARY INFORMATION: Beginning with the fall 2007 edition, the internet has been the basic means for disseminating the Unified Agenda. The complete Unified Agenda will be available online at www.reginfo.gov in a format that offers users a greatly enhanced ability to obtain information from the Agenda database.

Because publication in the Federal Register is mandated for the regulatory flexibility agendas required by the Regulatory Flexibility Act (5 U.S.C. 602), the Department of Justice's printed agenda entries include only:

Rules that are in the Agency's regulatory flexibility agenda, in accordance with the Regulatory Flexibility Act, because they are likely to have a significant economic impact on a substantial number of small entities; and any rules that the Agency has identified for periodic review under section 610 of the Regulatory Flexibility Act.

Printing of these entries is limited to fields that contain information required by the Regulatory Flexibility Act's Agenda requirements. Additional information on these entries is available in the Unified Agenda published on the internet.

Dated: May 15, 2024.
Susan M. Davies,
Principal Deputy Assistant Attorney General, Office of Legal Policy.

Civil Rights Division—Completed Actions
Sequence No. | Title | Regulation Identifier No.
141 | Nondiscrimination on the Basis of Disability: Accessibility of Web Information and Services of State and Local Government Entities | 1190-AA79

DEPARTMENT OF JUSTICE (DOJ)

Civil Rights Division (CRT)

Completed Actions

141. Nondiscrimination on the Basis of Disability: Accessibility of Web Information and Services of State and Local Government Entities [1190-AA79]

Legal Authority: 42 U.S.C. 12101 et seq.

Abstract: The Americans with Disabilities Act (ADA) states that “no qualified individual with a disability shall, by reason of such disability, be excluded from participation in or be denied the benefits of services, programs, or activities of a public entity, or be subjected to discrimination by any such entity.” 42 U.S.C. 12132. However, many public entities' (i.e., State and local governments') websites and mobile apps fail to incorporate or activate features that enable users with disabilities to access the public entity's services, programs, and activities. The Department published a Notice of Proposed Rulemaking (NPRM) proposing to amend its title II ADA regulation to provide technical standards to assist public entities in complying with their existing obligations to make their websites and mobile apps accessible to individuals with disabilities.

The NPRM was published on August 4, 2023, and the public comment period closed on October 3, 2023. The NPRM included more than 60 questions for public input. The Department also published a fact sheet describing the NPRM's proposed requirements in plain language to help ensure that members of the public understood the rule and had an opportunity to provide feedback.

The Department received approximately 345 comments from members of the public including individuals with disabilities, public entities, disability advocacy groups, members of the accessible technology industry, web developers, and many others. In addition, the Department attended three listening sessions with various stakeholders while the public comment period was open, with a cumulative total of more than 500 attendees. Those sessions provided important opportunities to receive the information that members of the public wanted to share about the proposed rule through additional avenues. The Department has issued a final regulation on this topic informed by the feedback received from members of the public.

Completed:

Reason | Date | FR Cite
Final Action | 04/24/24 | 89 FR 31320
Final Action Effective | 06/24/24

Regulatory Flexibility Analysis Required: Yes.

Agency Contact: Rebecca Bond, Phone: 202 307-0663.

RIN: 1190-AA79

[FR Doc. 2024-16454 Filed 8-15-24; 8:45 am]

BILLING CODE 4410-BP-P